DEPARTMENT OF THE INTERIOR

Bureau of Land Management

[CO-200-1220-DU]

Final Supplementary Rules Regarding Operation of Motorized Vehicles and Bicycles and Closure of Public Lands to Recreational Target Shooting

AGENCY: Bureau of Land Management; Royal Gorge Field Office, Interior.

ACTION: Notice of final supplementary rules for public lands within El Paso, Fremont, Park and Teller Counties, Colorado.

SUMMARY: The Bureau of Land Management (BLM)'s Royal Gorge Field Office is implementing supplementary rules. These supplementary rules implement three decisions from the Gold Belt Travel Management Plan, approved August 18, 2004. The rules apply to the public lands within the Gold Belt Travel Management Plan area under the management of the Royal Gorge Field Office, in El Paso, Fremont, Park, and Teller Counties, Colorado. The rules are needed in order to protect the area's natural resources and provide for public health and safety.

DATES: The rules are effective October 3, 2005.

ADDRESSES: You may send inquiries or suggestions to the Bureau of Land Management, Royal Gorge Field Office, 3170 East Main Street, Cañon City, Colorado 81212.

FOR FURTHER INFORMATION CONTACT: Roy L. Masinton, Field Manager, or Leah Quesenberry, Outdoor Recreation Planner, Royal Gorge Field Office, 3170 East Main Street, Cañon City, Colorado 81212, telephone 719-269-8500. Individuals who use a telecommunications device for the deaf (TDD) may contact them individually through the Federal Information Relay Service at 1-800/877-8339, 24 hours a day, seven days a week.

I. Background

II. Discussion of the Supplementary Rules

III. Procedural Matters

I. Background

A “Notice of Intent To Prepare the Gold Belt Travel Management Plan (TMP) and Amend the Royal Gorge Resource Management Plan” was announced in the Federal Register on June 18, 2002 (67 FR 41442). The completion of the Gold Belt Travel Management Plan Environmental Assessment led to a 30-day public comment period, starting on January 15, 2004. Following analysis of the public comments, a decision on the Gold Belt TMP was issued on August 18, 2004. The decision restricts Off-Highway Vehicle use to designated roads and trails in the TMP area and provides for the supplementary rules.

II. Discussion of Supplementary Rules

These supplementary rules apply to the public lands within the Gold Belt Travel Management Plan area. This area consists of 138,600 acres of public lands within El Paso, Fremont, Park, and Teller Counties, Colorado, in the following described townships:

Colorado, Sixth Principal Meridian

T. 15 S., R. 70 W. through 72 W.

T. 16 S., R. 68 W. through 72 W.

T. 17 S., R. 68 W. through 72 W.

T. 18 S., R. 68 W. through 71 W.

These supplementary rules implement three decisions from the Gold Belt Travel Management Plan, approved August 18, 2004. They include:

(1) A supplementary rule limiting motorized travel for parking, camping, and retrieving game to a maximum of 100 feet from designated roads and trails in the Gold Belt Travel Management Plan area (138,600 acres of public lands).

(2) A supplementary rule restricting mountain bikes to designated roads and trails in the Gold Belt Travel Management Plan area (138,600 acres of public lands).

(3) The closure of approximately 13,200 acres of public lands to recreational target shooting in the following areas: Garden Park Fossil Area (3,000 acres), the Shelf Road campgrounds and climbing area (2,900 acres), a one-quarter mile wide corridor along Phantom Canyon Road (4,200 acres), and Penrose Commons (3,100 acres). Licensed hunters in legitimate pursuit of game during the proper season with appropriate firearms, as defined by the Colorado Division of Wildlife, are exempt from this closure.

BLM has determined that these rules are necessary to prevent damage to public lands and natural resources, reduce user conflicts, protect public safety, and reduce vandalism to public and private property.

The proposed supplementary rules were published in the Federal Register on March 8, 2005 (70 FR 11264). We received no comments on the proposed supplementary rules, and therefore publish them unchanged as final supplementary rules. The supplementary rules were also inadvertently published in the Federal Register on April 20, 2005 (70 FR 20591). The supplementary rules are being published and implemented under the authority of 43 CFR 8341.1, 8364.1, and 8365.1-6. This notice, with detailed maps, will be posted at the Royal Gorge Field Office.

III. Procedural Matters

Executive Order 12866, Regulatory Planning and Review

These supplementary rules are not a significant regulatory action and are not subject to review by Office of Management and Budget under Executive Order 12866. These supplementary rules will not have an effect of $100 million or more on the economy. They will not adversely affect in a material way the economy, productivity, competition, jobs, the environment, public health or safety, or state, local, or tribal governments or communities. These supplementary rules will not create a serious inconsistency or otherwise interfere with an action taken or planned by another agency. These supplementary rules do not alter the budgetary effects of entitlements, grants, user fees, or loan programs or the rights or obligations of their recipients; nor do they raise novel legal or policy issues. They merely impose limitations on certain recreational activities on certain public lands to protect natural resources and human health and safety.

National Environmental Policy Act

BLM prepared an environmental assessment (EA) in support of the Gold Belt Travel Management Plan and found that the supplementary rules implementing the plan decisions would not constitute a major Federal action significantly affecting the quality of the human environment under section 102(2)(C) of the National Environmental Policy Act of 1969 (NEPA), 42 U.S.C. 4332(2)(C). A detailed statement under NEPA is not required. BLM has placed the EA, Finding of No Significant Impact (FONSI), and Decision Record on file in the BLM Administrative Record at the address specified in the ADDRESSES section.

Regulatory Flexibility Act

Congress enacted the Regulatory Flexibility Act of 1980 (RFA), as amended, 5 U.S.C. 601-612, to ensure that Government regulations do not unnecessarily or disproportionately burden small entities. The RFA requires a regulatory flexibility analysis if a rule would have a significant economic impact, either detrimental or beneficial, on a substantial number of small entities. These supplementary rules should have no effect on business entities of whatever size. They merely would impose reasonable restrictions on certain recreational activities on certain public lands to protect natural resources and the environment, and human health and safety. Therefore, BLM has determined under the RFA that these rules would not have a significant economic impact on a substantial number of small entities.

Small Business Regulatory Enforcement Fairness Act (SBREFA)

These supplementary rules are not a “major rule” as defined at 5 U.S.C. 804(2). They would not result in an effect on the economy of $100 million or more, in an increase in costs or prices, or in significant adverse effects on competition, employment, investment, productivity, innovation, or on the ability of United States-based enterprises to compete with foreign-based enterprises in domestic and export markets. They would merely impose reasonable restrictions on certain recreational activities on certain public lands to protect natural resources and the environment, and human health and safety.

Unfunded Mandates Reform Act

These supplementary rules do not impose an unfunded mandate on state, local, or tribal governments or the private sector of more than $100 million per year; nor do these supplementary rules have a significant or unique effect on state, local, or tribal governments or the private sector. They would merely impose reasonable restrictions on certain recreational activities on certain public lands to protect natural resources and the environment, and human health and safety. Therefore, BLM is not required to prepare a statement containing the information required by the Unfunded Mandates Reform Act (2 U.S.C. 1531 et seq.).

Executive Order 12630, Governmental Actions and Interference With Constitutionally Protected Property Rights (Takings)

The supplementary rules do not represent a government action capable of interfering with constitutionally protected property rights. The reasonable restrictions that would be imposed by these supplementary rules would not deprive anyone of property or interfere with anyone's property rights. Therefore, the Department of the Interior has determined that these supplementary rules would not cause a taking of private property or require further discussion of takings implications under this Executive Order.

Executive Order 13132, Federalism

The supplementary rules will not have a substantial direct effect on the states, on the relationship between the national government and the states, or on the distribution of power and responsibilities among the various levels of government. Government vehicles are expressly excluded from the effect of the vehicle restrictions. The shooting restrictions in these supplementary rules do not apply to hunting with a state hunting license. Therefore, in accordance with Executive Order 13132, BLM has determined that these supplementary rules do not have sufficient Federalism implications to warrant preparation of a Federalism Assessment.

Executive Order 12988, Civil Justice Reform

Under Executive Order 12988, the Office of the Solicitor has determined that these supplementary rules would not unduly burden the judicial system and that they meet the requirements of sections 3(a) and 3(b) (2) of the Order.

Executive Order 13175, Consultation and Coordination With Indian Tribal Governments

In accordance with Executive Order 13175, we have found that these supplementary rules do not include policies that have tribal implications. Formal consultation with 16 tribes was completed for the Gold Belt Travel Management Plan.

Executive Order 13211, Actions Concerning Regulations That Significantly Affect Energy Supply, Distribution, or Use

In accordance with Executive Order 13211, BLM has determined that the supplementary rules will not have substantial direct effects on energy supply, distribution or use, including any shortfall in supply or price increase. The restrictions on vehicle use should have no substantial effect on fuel consumption, and no other provision in the supplementary rules has any relationship to energy supply, distribution, or use.

Paperwork Reduction Act

These supplementary rules do not contain information collection requirements that the Office of Management and Budget must approve under the Paperwork Reduction Act of 1995, 44 U.S.C. 3501 et seq.

Author

The principal author of these supplementary rules is Leah Quesenberry, Outdoor Recreation Planner, Royal Gorge Field Office, Bureau of Land Management.

Supplementary Rules for the Gold Belt Travel Management Plan Area

Under 43 CFR 8341.1, 8364.1, and 8365.1-6, the Bureau of Land Management will enforce the following rules on the public lands within the Gold Belt Travel Management Plan area, Royal Gorge Field Office, Colorado. You must follow these rules:

Rules

1. In the Gold Belt Travel Management Plan area (138,600 acres of public land)—

a. You must not park a motorized vehicle farther than 100 feet from a designated road or trail;

b. You must not use a motorized vehicle for camping more than 100 feet from a designated road or trail;

c. You must not use a motorized vehicle for retrieving game more than 100 feet from a designated road and trail.

2. You must not ride mountain bikes other than on designated roads and trails on public lands in the Gold Belt Travel Management Plan area.

3. You must not engage in recreational target shooting on public lands in the following areas: Garden Park Fossil Area (3,000 acres), the Shelf Road campgrounds and climbing area (2,900 acres), a one-quarter mile wide corridor along Phantom Canyon Road (4,200 acres), and Penrose Commons (3,100 acres).

Exceptions

These supplementary rules do not apply to emergency, law enforcement, and Federal or other government vehicles while being used for official or other emergency purposes, or to any other vehicle use that is expressly authorized or otherwise officially approved by BLM. The prohibition of target shooting in rule 3 has no effect on hunting by licensed hunters in legitimate pursuit of game during the proper season with appropriate firearms, as defined by the Colorado Division of Wildlife.

Penalties

Under section 303(a) of the Federal Land Policy and Management Act of 1976 (43 U.S.C. 1733(a)) and 43 CFR 8360.0-7 if you violate any of these supplementary rules on public lands within the boundaries established in the rules, you may be tried before a United States Magistrate and fined no more than $1,000 or imprisoned for no more than 12 months, or both. Such violations may also be subject to the enhanced fines provided for by 18 U.S.C. 3571.

Ron Wenker,
State Director, Colorado State Office.

[FR Doc. 05-17503 Filed 9-1-05; 8:45 am]

BILLING CODE 4310-JB-P